DEPARTMENT OF HEALTH AND HUMAN SERVICES

Administration for Children and Families

Proposed Information Collection Activity; Understanding Children's Transitions From Head Start to Kindergarten (HS2K) (New Collection)

AGENCY: Office of Planning, Research, and Evaluation, Administration for Children and Families, HHS.

ACTION: Request for Public Comment.

SUMMARY: The Administration for Children and Families (ACF) at the U.S. Department of Health and Human Services (HHS) seeks approval to conduct semi-structured, qualitative interviews with Head Start staff (grantee administrators, managers/coordinators, center directors, teachers, staff), parents, affiliated community providers, and partner Local Education Agency (LEA) staff (administrators, elementary school principals, staff, and kindergarten teachers) at six sites. A comparative case study design will explore varying strategies and approaches to supporting children's transitions from Head Start to kindergarten.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The proposed case studies intend to study the transition strategies and approaches employed, across various levels, both within and across the Head Start and elementary school systems. The case studies focus on how relationships across systems support coordinated transition practices, which are hypothesized to lead to the most positive outcomes for children, families, and teachers. Qualitative data collection protocols will explore how the supports for and implementation of transition approaches vary amongst Head Start grantees/delegates, Head Start centers, elementary schools, and LEAs within the same communities, including contextual factors that support or hinder meaningful collaboration.

Respondents: Head Start administrators, LEA administrators, Head Start center directors, elementary school principals, Head Start teachers, kindergarten teachers, elementary school staff, Head Start managers & coordinators, Head Start parents/families (pre- and post-kindergarten transition), Community Service Providers.

Annual Burden Estimates
Instrument | Number of respondents (total over request period) | Number of responses per respondent (total over request period) | Avg. burden per response (in hours) | Total/annual burden (in hours)
Administrator Interview Protocol (Head Start grantee and delegate agency administrator, Local Education Agency administrator) | 30 | 1 | 1 | 30
Site Leadership Interview Protocol (Head Start Center Director, elementary principal) | 12 | 1 | 1.25 | 15
Teacher & Staff Interview Protocol (Head Start teacher, kindergarten teacher, elementary staff) | 30 | 1 | .80 | 24
Head Start Manager/Coordinator Interview Protocol | 12 | 1 | 1.25 | 15
Head Start Family Background Questionnaire | 48 | 1 | .25 | 12
Head Start Family Focus Group Protocol | 48 | 1 | 1.25 | 60
Kindergarten Family Interview Protocol | 12 | 1 | .75 | 9
Community Partner Interview Protocol | 6 | 1 | 1 | 6
Social Network Instrument | 90 | 1 | .25 | 22.5

Estimated Total Annual Burden Hours: 193.5.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9835 and 42 U.S.C. 9844.

John M. Sweet Jr.,
ACF/OPRE Certifying Officer.

[FR Doc. 2020-19536 Filed 9-2-20; 8:45 am]

BILLING CODE 4184-22-P